DELAWARE RIVER BASIN COMMISSION

Notice of Commission Meeting and Public Hearing

Notice is hereby given that the Delaware River Basin Commission will hold an informal conference followed by a public hearing on Thursday, May 10, 2007. The hearing will be part of the Commission's regular business meeting. Both the conference session and business meeting are open to the public and will be held at the Commission's office building, located at 25 State Police Drive in West Trenton, New Jersey.

The conference among the commissioners and staff will begin at 10:15 a.m. Topics include a presentation on the status of the Flood Mitigation Task Force report and recommendations; a presentation on a revised proposal for a Flexible Flow Management Plan (FFMP) for the New York City Delaware Basin Reservoirs for potential consideration by the Commission at its meeting in July; a presentation on PCB Trackdown for the Camden County Municipal Utilities Authority; and a presentation on proposed modifications to the Commission's office building to improve energy efficiency and reduce cost.

The subjects of the public hearing to be held during the 1:30 p.m. business meeting include the dockets listed below:

1. Pen Argyl Municipal Authority D-75-28 CP-2. An application for approval to upgrade the Pen Argyl Municipal Authority WWTP. The WWTP design capacity will remain at 0.95 mgd. The project involves replacement of the existing contact aeration/trickling filter processes with a sequencing batch reactor process. The treatment process change is needed to improve nutrient removal. The WWTP will continue to discharge to an un-named tributary of Waltz Creek in the Martins Creek Watershed, which is located within the drainage area to a section of the non-tidal Delaware River known as the Lower Delaware, which is classified as Special Protection Waters. The WWTP serves the Borough of Pen Argyl and portions of Plainfield and Washington Townships, all located within Northampton County, Pennsylvania.

2. Mt. Airy #1, LLC D-77-58-3. An application to modify an existing wastewater treatment plant to replace aged equipment and provide more reliable operation of the treatment facility. The modifications include installation of new fine screening equipment to replace the comminutor; replacement of the existing air supply system, including the blowers and air diffusers in the aeration basins; installation of new alum, polymer, alkalinity and sodium hypochlorite systems for process control and disinfection; construction of a new sludge holding tank; and miscellaneous improvements to controls, power supply and alarms throughout the treatment facility. No change is proposed to the existing effluent limits or design capacity of 0.220 million gallons per day. The project effluent discharges to Forest Hills Run in the drainage area of DRBC Special Protection Waters. The project is located at the former Mount Airy Lodge property in Paradise Township, Monroe County, Pennsylvania. In addition to serving a proposed hotel and casino, the project will continue to serve the adjacent golf course clubhouse and Our Lady of the Poconos Convent, also in Paradise Township.

3. West Deptford Township D-79-82 CP-4. An application for the renewal of a ground water withdrawal project to continue withdrawal of 108.5 mg/30 days to supply the applicant's public water supply distribution system from existing Wells Nos. 3, 4, 5, 6, 7 and 8 in the Potomac-Raritan-Magothy Formation. The project is located in the Mantua Creek and Woodbury Creek watersheds in West Deptford Township, Gloucester County, New Jersey.

4. Lake Wynonah Municipal Authority D-91-20 CP-3. An application for approval of a ground water withdrawal project to supply up to 4.32 mg/30 days of water to the applicant's public water supply distribution system from new Well No. 8 and to retain the existing withdrawal from all wells of 12 mg/30 days. The project is located in the Long Run Member of the Catskill Formation in the Plum Creek Watershed in Wayne and South Manheim Townships, Schuylkill County, Pennsylvania.

5. City of Philadelphia—Division of Aviation D-96-36 CP-2. An application for the renewal of a ground water withdrawal project to continue the withdrawal of 29.7 mg/30 days to supply the applicant's western boundary area mitigation system from existing Wells Nos. EW-A, EW-1, EW-2 and EW-3 in the Pleistocene Sand and Gravel Formation. The project is located in the Delaware River Watershed in the City of Philadelphia, Philadelphia County, Pennsylvania.

6. Buckingham Township D-2003-13 CP-4. An application for approval of a ground water withdrawal project to supply up to 3.24 mg/30 days of water to the applicant's public water supply distribution system from new Well No. CS-5 and to retain the existing total withdrawal allocation from all wells of 42 mg/30 days. The project is located in the Stockton, Brunswick and Lockatong formations in the Pine Creek, Neshaminy Creek and Robin Run watersheds in Buckingham Township, Bucks County, PA and is located in the Southeastern Pennsylvania Ground Water Protected Area. (This project was originally noticed on 8/18/2005 as part of Docket D-2003-13 CP-2.)

7. Borough of Bridgeport D-70-81 CP-2. An application for approval to rerate a 0.77 million gallons per day (mgd) wastewater treatment plant (WWTP) to operate at its design capacity of 0.9 mgd. The project is located off River Road just south of the Pennsylvania Turnpike in the Schuylkill River Watershed in Upper Merion Township, Montgomery County, Pennsylvania. The WWTP will continue to serve Bridgeport Borough and discharge to the Schuylkill River through the existing outfall. The project is located in the Southeastern Pennsylvania Ground Water Protected Area.

8. Mount Holly Municipal Utilities Authority D-70-133 CP-3. An application for approval to expand a 5 mgd WWTP to treat 6 mgd. The project is located in the Rancocas Creek Watershed in Mount Holly Township, Burlington County, New Jersey. The expanded WWTP will continue to serve Mount Holly Township and portions of Eastampton, Mount Laurel, Hainesport, Lumberton, Moorestown, and Westampton Townships, all within Burlington County. The existing powdered activated carbon treatment system will be replaced by a conventional activated sludge process. Following chlorine disinfection, the WWTP effluent will be aerated and discharged to North Branch Rancocas Creek within the tidal reach of DRBC Water Quality Zone 2.

9. Borough of National Park D-77-18 CP-2. An application for approval of a ground water withdrawal project to supply up to 12 million gallons per thirty days (mg/30 days) of water to the applicant's public supply distribution system from new Well No. 6 and existing Well No. 5, formerly known as Well No. 4. The requested allocation of 12 mg/30 days constitutes a decrease from the existing allocation of 22.5 mg/30 days. The project is located in the Potomac-Raritan-Magothy Formation in the Woodbury Creek Watershed in National Park Borough, Gloucester County, New Jersey.

10. Waste Management Disposal Services of Pennsylvania, Inc. D-91-47 PA-3. An application for renewal of a ground water withdrawal project at Pottstown Landfill to continue withdrawal of up to 0.6 mg/30 days of water to the docket holder's contaminant extraction system from new recovery well RW-7 and from six existing recovery wells (RW-1 through RW-6). The docket holder seeks to retain the existing withdrawal limit from all wells of 0.6 mg/30 days, notwithstanding that its current need is less than 10,000 gpd. The project is located in the Brunswick and Lockatong Formations in the Manatawny Creek Watershed in West Pottsgrove Township, Montgomery County, Pennsylvania and is located in the Southeastern Pennsylvania Ground Water Protected Area. (This was NAR'd as D-97-47 PA-3.)

11. Pennsylvania American Water Company D-98-16 CP-2. An application for the renewal of a ground water withdrawal project to increase withdrawal from 36 mg/30 days to 61.5 mg/30 days. The requested allocation includes the existing allocation of 36 mg/30 days from Wells PCP No. 2, PCP No. 3, PCP No. 4, PFE No. 2, PFE No. 4, Pine Hill, Summit Point, PMIPA, and Coolbaugh No. 1, all approved by Docket No. D-98-16 CP, in addition to the existing allocation of 15.75 mg/30 days for Wells Nos. 1, 2, 3, 4, 5, and 7 of the Pocono Farms Water Company, approved by Docket No. D-94-65 CP-2, which was recently acquired by the applicant. The applicant is also seeking approval for a new well, which is designated as the Mt. Pocono Field Office well. The wells are located in the Polar Gap and Catskill Formations in the Tobyhanna Creek, East Branch Tobyhanna Creek, Devils Hole Creek, Red Run, and Indian Run Watersheds in Coolbaugh Township and Mt. Pocono Borough, Monroe County, Pennsylvania. This withdrawal project is located within the drainage area to the section of the non-tidal Delaware River known as the Lower Delaware, which is classified as Special Protection Waters.

12. Downingtown Area Regional Authority D-98-33 CP-2. An application for approval of the rerate of the existing Downingtown Area Regional Authority's WWTP. The discharge from the applicant's WWTP will increase from an average annual flow of 7.134 mgd to 7.5 mgd and will continue to be discharged to the East Branch Brandywine Creek. Additional solids handling improvements are also included in the project. The facility is located in East Caln Township, Chester County, Pennsylvania.

13. Dow Reichhold Specialty Latex LLC D-99-32-2. An application for approval of a ground water withdrawal project to supply up to 5.4 mg/30 days of water to the applicant's reverse osmosis facility from new Well No. 18 and to increase the existing withdrawal from all wells from 17 mg/30 days to 22.4 mg/30 days. The water will be used to create distilled water for the applicant's latex manufacturing facility. The project is located in the Magothy Aquifer in the Fork Branch Watershed in Kent County, Delaware.

14. Lonza, Inc. D-99-38-2. An application requesting approval for an increase in the average monthly and maximum daily TDS limit for the docket holder's industrial waste treatment plant (IWTP) discharge. The request is to increase the average monthly limit from 17,500 mg/l to 20,000 mg/l and to increase the maximum daily limit from 35,000 mg/l to 40,000 mg/l. The docket holder has requested that the average monthly and maximum daily mass loading rates for TDS be increased to 13,344 lb/day and 26,688 lb/day, respectively. The docket holder's IWTP treats effluent from the production of pharmaceutical products. The IWTP discharges to the Schuylkill River. The facility is located in Upper Merion Township, Montgomery County, PA.

15. Upper Saucon Township D-2000-51 CP-2. An application for approval of a groundwater withdrawal project to supply up to 32.16 million gallons per thirty days (mg/30 days) of water to the docket holder's public supply distribution system through one new well (Well No. CC2) and two existing wells (Wells Nos. CC1 and Abandoned Mine Shaft). The individual allocation for the Abandoned Mine Shaft Well is a reduction from the previous allocation of 30 mg/30 days to 3 mg/30 days; however, the proposed total allocation for all sources is an increase from the previous total allocation for all sources of 30 mg/30 days. The project is located in the Brunswick Formation in the Saucon Creek Watershed in Upper Saucon Township, Lehigh County, Pennsylvania.

16. Upper Bern Township D-2001-2 CP-2. An application for approval to expand a 0.055 mgd WWTP to treat 0.155 mgd. The project will continue to serve only a portion of Upper Bern Township, Berks County, Pennsylvania. The project is needed to serve future growth in the township and to connect some on-lot septic systems to the WWTP. The existing sequencing batch reactor plant will be supplemented by a 0.1 mgd biologically engineered single sludge treatment system, which is a modification of the conventional activated sludge process. The existing chlorine disinfection system will be replaced by an ultraviolet light system and the existing headworks will be replaced by a new Rotomat unit. The project is located off the intersection of Main Street and Wolf Creek Road in Upper Bern Township upstream from Blue Marsh Reservoir in the Tulpehocken Creek Watershed. The WWTP will continue to discharge to Wolf Creek, a tributary of Northkill Creek.

17. The Upper Hanover Authority D-2002-10 CP-2. An application for the renewal of a groundwater withdrawal project to increase the total system withdrawal from 32.12 mg/30 days to 43.113 mg/30 days to supply the applicant's public water supply distribution system from existing Wells Nos. RH-1, RH-2, RH-3, TUHA-1, TUHA-2, TUHA-3, TUHA-4 and Kemmerer Spring in the Brunswick, Leithsville and Hardyston Quartzite formations. The increased allocation is requested in order to meet projected increases in service area demand. The project is located in the Perkiomen and Macoby Creek watersheds in Upper Hanover Township, Montgomery County and Hereford Township, Berks County, Pennsylvania and within the Southeastern Pennsylvania Ground Water Protected Area.

18. Blair Academy D-76-89. An application for approval of the existing Blair Academy WWTP. The WWTP is permitted to discharge 50,000 gallons per day (gpd) to Blair Creek, a tributary of the Paulins Kill River. The facility is located in Blairstown Township, Warren County, New Jersey, within the drainage area to a section of the non-tidal Delaware River known as the Lower Delaware, which is classified as Special Protection Waters.

19. Mirant NY-Gen, LLC D-2001-38 CP-1. An application for approval of the continued operation and remediated control measures of the applicant's Mongaup hydropower and reservoir system. The project is located in the Mongaup River Watershed in Orange and Sullivan Counties, New York in the drainage area of the Upper Delaware portion of DRBC's Special Protection Waters. The project facilities include the Toronto, Cliff Lake and Swinging Bridge Reservoirs, the latter of which provides hydroelectric power and receives flows from the former. In addition, the applicant makes releases from and generates hydroelectric power via its Mongaup Falls and Rio Reservoir facilities, also in the Mongaup River Basin. This application modifies an application originally noticed on August 20, 2001, which requested approval of an operating plan for the applicant's Mongaup hydropower and reservoir system. Mirant's Swinging Bridge Reservoir has two powerhouses (Units No. 1 and 2). The modified application includes eliminating the use of Unit No. 1 by filling the gate tower, penstock and tunnel with lightweight concrete. As a result, Unit No. 2 operating time is proposed to be increased from 13% to 30% and to use approximately 97% of the available inflow to the site, with only minor losses of power generation capability. Remedial control measures, including sinkhole back-filling, filter installation to stabilize material movement, and the conduit-related grouting, are being undertaken with the approval of the Federal Energy Regulatory Commission (FERC) to provide structural repair at the dam, which had undergone subsidence. Mirant determined that complete filling of the conduit would further assure that future subsidence would not recur. Mirant applied for an Emergency Certificate from DRBC to implement the Swinging Bridge Dam modification project in an expeditious manner. The Emergency Certificate was approved by the DRBC on February 13, 2007. The project will not change reservoir volumes or affect reservoir level maintenance, and will not change the regulated flow from the Mongaup River System to the Delaware River.

20. Pocono Manor Investors, LP. D-2006-26-1. An application for approval of the existing Pocono Manor Resort WWTP discharge of 0.140 mgd. The WWTP will continue to discharge to Swiftwater Creek, which is a tributary to the Brodhead Creek. The Brodhead Creek is a tributary to the Middle Delaware River Special Protection Waters. The facility is located in Pocono Township, and currently serves Pocono Manor Village and the Pocono Manor Inn. The facility was built to service the 3,000 acre Pocono Manor property that is located in Pocono Township, Mount Pocono Borough and Tobyhanna Township, Monroe County, Pennsylvania.

21. Alcan Global Pharmaceutical Packing, Inc. D-2006-30-1. An application for the approval of the existing discharge from the applicant's Millville Tube Drawing facility. The facility discharges 84,500 gpd of contact and non-contact cooling water to Petticoat Stream, which is a tributary of the Maurice River. The facility manufactures pressed and blown glassware, and cooling water is used to cool the glass furnace and compressors. The facility is located in Millville City, Cumberland County, New Jersey.

22. Hudson Valley Foie Gras, LLC D-2006-37-1. An application for approval to increase an existing discharge from the applicant's WWTP from 4,000 gpd to 20,000 gpd. The WWTP will continue to discharge to the Middle Mongaup River, which is a tributary of the Mongaup River. The Mongaup River is a tributary to the Upper Delaware River which is designated as Special Protection Waters. The facility is located in Ferndale, Sullivan County, New York.

23. Joshmor, Inc. D-2007-5-1. An application for approval to construct a 0.047 mgd WWTP to serve 207 single family homes in the proposed Emerson Chase Development. The project is located in the McMichael Creek Watershed in Jackson and Chestnuthill Townships, Monroe County, Pennsylvania. Following treatment in a 3-cell lagoon and a filter system, disinfected effluent will be spray applied to approximately 13 acres of adjacent woodland in the drainage area of the Middle Delaware portion of DRBC's Special Protection Waters. Because the proposed lagoon will be lined with synthetic material and will provide up to 177 days of storage, no discharge to McMichael Creek is proposed.

24. Golden Pheasant Golf Course D-2007-9-1. An application for approval of a surface water withdrawal project to supply up to 15.4 mg/30 days of water to the applicant's golf course irrigation system from 4 surface water intakes. The project is located in the South Branch Rancocas Creek Watershed in Lumberton and Medford Townships, Burlington County, New Jersey.

25. Unimin Corporation D-2007-14-1. An application for approval to discharge up to 2.275 mgd to Dividing Creek from a hydraulic dredging operation. After neutralization and sedimentation, wash water from sorted dredge material (slurry sand) along with scalping screen separator water, stormwater, and infiltration groundwater is discharged to Outfall 001A. The applicant also discharges to Cub Swamp, a tributary of Dividing Creek, through Outfall 002A during 10-year storm events. The facility is located in the tidal Delaware Bay Watershed in Commercial and Downe townships, Cumberland County, New Jersey.

In addition to the public hearing on the dockets listed above, the Commission's 1:30 p.m. business meeting will include: A public hearing and consideration of a resolution regarding an interim releases program for the New York City Delaware Basin Reservoirs pending notice and comment rulemaking on a revised proposal for a Flexible Flow Management Plan (FFMP); a resolution authorizing the executive director to engage the U.S. Geological Survey as prime contractor, in collaboration with NOAA/National Weather Service, the U.S. Army Corps of Engineers and DRBC, for development of a model for evaluating the potential for Delaware Basin Reservoirs to be used to mitigate flooding; a resolution reauthorizing the Toxics Advisory Committee; a resolution authorizing the executive director to engage contractors to design building modifications to improve energy efficiency and reduce cost, and to develop RFPs for construction; a resolution authorizing the executive director to solicit bids for building modifications in association with development of the Ruth Patrick River Garden; a resolution providing for election of the Commission Chair, Vice Chair and Second Vice Chair for the year commencing July 1, 2007; and a resolution for the minutes providing for annual salary rates of Commission employees for fiscal year 2008.

The meeting will also include: adoption of the Minutes of the Commission's February 28, 2007 business meeting; announcements of upcoming advisory committee meetings and other events; a report by the Executive Director; a report by the Commission's General Counsel; and an opportunity for public dialogue.

Draft dockets scheduled for public hearing on May 10, 2007 will be posted on the Commission's Web site, http://www.drbc.net, where they can be accessed through the Notice of Commission Meeting and Public Hearing. Additional documents relating to the dockets and other items may be examined at the Commission's offices. Please contact William Muszynski at 609-883-9500, extension 221, with any docket-related questions.

Individuals in need of an accommodation as provided for in the Americans with Disabilities Act who wish to attend the informational meeting, conference session or hearings should contact the commission secretary directly at 609-883-9500 ext. 203 or through the Telecommunications Relay Services (TRS) at 711, to discuss how the Commission can accommodate your needs.

Dated: April 13, 2007.
Pamela M. Bush,
Commission Secretary.

[FR Doc. E7-7505 Filed 4-19-07; 8:45 am]

BILLING CODE 6360-01-P